COMMODITY FUTURES TRADING COMMISSION

Agency Information Collection Activities: Notice of Intent To Renew Collection 3038-0052, Establishing Procedures for Designated Contract Markets and Applicants Seeking Designation, Comment Request

AGENCY: Commodity Futures Trading Commission.

ACTION: Extension of an existing collection notice.

SUMMARY: The Commodity Futures Trading Commission (Commission or CFTC) is announcing an opportunity for public comment on the proposed collection of certain information by the agency. Under the Paperwork Reduction Act of 1995 (PRA), 44 U.S.C. 3501 et seq., Federal agencies are required to publish notice in the Federal Register concerning each proposed collection of information, including each proposed extension of an existing collection of information, and to allow 60 days for public comment in response to the notice. This notice solicits comments on requirements relating to Part 38 of the Commission's regulations (17 CFR 38) establishing submission and compliance procedures for designated contract markets and applicant exchanges seeking designation with the CFTC.

DATES: Comments must be submitted on or before November 12, 2008.

ADDRESSES: Comments may be mailed to Bruce Fekrat, Special Counsel, Division of Market Oversight, U.S. Commodity Futures Trading Commission, 1155 21st Street, NW., Washington, DC 20581.

FOR FURTHER INFORMATION CONTACT: Bruce Fekrat, (202) 418-5578; Fax: (202) 418-5527; e-mail: bfekrat@cftc.gov.

SUPPLEMENTARY INFORMATION: Under the PRA, Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. To comply with this requirement, the CFTC is publishing notice of the intent to renew the collection of information listed below.

With respect to the following collection of information, the CFTC invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

Collection 3038-0052, Establishing Procedures for Designated Contract Markets and Applicants Seeking Designation—Extension

Part 38 of the Commission's regulations governs the activities of designated contract markets. The information collected thereunder is necessary for the Commission to evaluate whether entities operating as, or applying to become, designated contract markets are in compliance with the designation criteria of section 5(b) of the Commodity Exchange Act (CEA), 7 U.S.C. 7(b), and the core principles of section 5(d) of the CEA, 7 U.S.C. 7(d), and the Commission's regulations adopted thereunder.

The Commission estimates the burden of this collection of information as follows:

Estimated Annual Reporting Burden
Report | Estimated number of respondents | Reports annually by each | Total annual responses | Estimated average number of hours per response | Annual reporting burden
Designation and Compliance | 13 | NA | NA | 300 | 3900
Annual | 13 | 1 | 13 | 70 | 910

Burden means the total time, effort, or financial resources expended by persons to generate, maintain, retain, disclose or provide information to or for a federal agency. This includes the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Dated: September 8, 2008.
David A. Stawick,
Secretary of the Commission.

[FR Doc. E8-21287 Filed 9-11-08; 8:45 am]

BILLING CODE 6351-01-P